DEPARTMENT OF EDUCATION

List of Correspondence

AGENCY: Office of Special Education and Rehabilitative Services, Department of Education.

ACTION: List of Correspondence from July 1, 2010 through September 30, 2010.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA.

FOR FURTHER INFORMATION CONTACT: Laura Duos or Mary Louise Dirrigl. Telephone: (202) 245-7468.

If you use a telecommunications device for the deaf (TDD), you can call the Federal Relay Service (FRS), toll free, at 1-800-877-8339.

Individuals with disabilities can obtain a copy of this notice in an accessible format (e.g., braille, large print, audiotape, or computer diskette) on request to the contact persons listed under FOR FURTHER INFORMATION CONTACT.

SUPPLEMENTARY INFORMATION: The following list identifies correspondence from the Department issued from July 1, 2010 through September 30, 2010. Included on the list are those letters that contain interpretations of the requirements of the IDEA and its implementing regulations, as well as letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

SECTION 612—State Eligibility

Topic Addressed: Least Restrictive Environment

○ Letter dated August 23, 2010 to Conference of Educational Administrators of Schools and Programs for the Deaf, Inc. President Edward H. Bosso, Jr., regarding factors to be considered in determining placement for students who are deaf.

SECTION 614—Evaluations, Eligibility Determinations, Individualized Education Programs, and Educational Placements

Topic Addressed: Revocation of Consent

○ Letter dated August 31, 2010 to Kansas State Department of Education Attorney Mark Ward, reiterating that a local educational agency (LEA) must accept either parent's revocation of consent for the child's continued receipt of special education and related services, provided that the parent has legal authority to make educational decisions on behalf of the child.

Topic Addressed: Individualized Education Programs (IEPs)

○ Letter dated August 5, 2010 to Little Cypress-Mauriceville Director of Special Programs Dr. Robert H. Finch, regarding individualized education program (IEP) goals for transfer students with disabilities during the time period when the new public agency is required to provide services comparable to those described in the child's IEP from the previous public agency.

Section 615—Procedural Safeguards

Topic Addressed: Independent Educational Evaluations

○ Letter dated August 13, 2010 to individuals (personally identifiable information redacted), regarding public agency criteria for independent educational evaluations, particularly the qualifications of examiners conducting psychological evaluations.

Topic Addressed: Prior Written Notice

○ Letter dated August 5, 2010 to Missouri Division of Special Education Assistant Commissioner Heidi Atkins-Lieberman, regarding whether a public agency is required to include a child's specific category of eligibility in a prior written notice provided under Part B of the IDEA.

Topic Addressed: Mediation And Resolution Agreements

○ Letter dated July 13, 2010 to Texas Education Agency General Counsel David Anderson, regarding the effect of a settlement agreement resulting from a mediation or resolution meeting on claims raised in subsequent State complaints.

Section 616—Monitoring, Technical Assistance, and Enforcement and Section 642—Federal Administration

Topic Addressed: State Performance Plans

○ Letter dated September 16, 2010 to Florida Infants and Young Children Executive Director Pat Grosz, regarding requirements for States to establish targets of 100 percent for all compliance indicators in State Performance Plans and Annual Performance Reports under Part C of the IDEA.

Electronic Access to This Document

You can view this document, as well as all other Department of Education documents published in the Federal Register, in text or Adobe Portable Document Format (PDF) on the Internet at the following site: http://www.ed.gov/news/fedregister/index.html.

To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: February 11, 2011.
Alexa Posny,
Assistant Secretary for Special Education and Rehabilitative Services.

[FR Doc. 2011-3635 Filed 2-16-11; 8:45 am]

BILLING CODE 4000-01-P